DEPARTMENT OF COMMERCE

National Oceanic and Atmospheric Administration

[RTID 0648-XB927]

South Atlantic Fishery Management Council; Public Meetings

AGENCY: National Marine Fisheries Service (NMFS), National Oceanic and Atmospheric Administration (NOAA), Commerce.

ACTION: Notice of public meetings.

SUMMARY: The South Atlantic Fishery Management Council will hold a meeting of the Socio-Economic Panel (SEP) on April 25-26, 2022 and the Scientific and Statistical Committee (SSC) on April 26-28, 2022.

DATES: The SEP meeting will be held April 25-26, 2022. The meeting will be held from 1 p.m. until 5 p.m. EDT on April 25, and from 9 a.m. until 12 p.m. on April 26. The SSC meeting will be held April 26-28, 2022. The SSC meeting will be held from 1:30 p.m. until 5:30 p.m. EDT on April 26, from 8 a.m. until 5:30 p.m. on April 27, and from 8 a.m. until 12 p.m. on April 28, 2022.

ADDRESSES:

Meeting address: The meetings will be held at the Town and Country Inn, 2008 Savannah Highway, Charleston, SC 29407; phone: (884) 201-3033.

The meetings will also be available via webinar. Registration is required. Webinar registration, an online public comment form, and briefing book materials will be available two weeks prior to the meetings at: https://safmc.net/safmc-meetings/scientific-and-statistical-committee-meetings.

Council address: South Atlantic Fishery Management Council, 4055 Faber Place Drive, Suite 201, N Charleston, SC 29405.

FOR FURTHER INFORMATION CONTACT: John Hadley, Fishery Management Plan Coordinator, SAFMC; phone: (843) 571-4366 or toll free: (866) SAFMC-10; fax: (843) 769-4520; email: john.hadley@safmc.net.

SUPPLEMENTARY INFORMATION:

SSC Socio-Economic Panel

The SEP meeting agenda includes: Review and discussion of the Allocation Decision Tree, a tool that incorporates biological, economic, and social information into allocation decision making; review and discussion of a lexicon for best fishing practices outreach and social and economic analyses that could be considered when evaluating management techniques for reducing regulatory releases and release mortality; and presentations from NOAA Fisheries' Southeast Fishery Science Center (SEFSC) staff on alternative mechanisms for distributing fish to the recreational sector and on the South Atlantic golden tilefish fishery. SEP members will receive updates on recent Council amendments and the Council's Citizen Science Program. The SEP will provide recommendations for SSC and Council consideration as appropriate.

Scientific and Statistical Committee

The SSC meeting agenda includes: Review and discussion of a report from the SSC's workgroup for catch level projections; framework for the reduction of release mortality of snapper-grouper species; an interim analysis strategy presented by the SEFSC; overviews of the methods for estimating the abundance of red snapper in the South Atlantic and greater amberjack in the South Atlantic and Gulf of Mexico; updates from fishery-independent surveys conducted by NOAA and the South Carolina Department of Natural Resources; and recent updates to goliath grouper data and indices. The SSC will also review and provide comments on the Southeast Data Assessment and Review (SEDAR) terms of reference and scopes of work for several South Atlantic species, receive updates on South Atlantic fishery management plan amendments, and discuss other business as needed.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: April 4, 2022.
Tracey L. Thompson,
Acting Deputy Director, Office of Sustainable Fisheries, National Marine Fisheries Service.

[FR Doc. 2022-07382 Filed 4-6-22; 8:45 am]

BILLING CODE 3510-22-P